DEPARTMENT OF TRANSPORTATION

Coast Guard

33 CFR Part 165

[CGD09-01-129]

RIN 2115-AA97

Security Zone; Selfridge Air National Guard Base, MI

AGENCY: Coast Guard, DOT.

ACTION: Final rule.

SUMMARY: The Coast Guard is establishing a security zone. The security zone has been implemented in Lake St. Clair in the vicinity of Selfridge Air National Guard Base in Michigan. The zone extends one half mile from shore, between the Hall Road launch ramp and the entrance to Mac and Rays Marina, where Coast Guard vessels will be patrolling. The security zone is needed to protect the Selfridge area from terrorist threats.

DATES: This final rule becomes effective at 2 p.m. on September 11, 2001.

ADDRESSES: You may mail comments to the Captain of the Port, Detroit, Michigan, or deliver them to the Coast Guard Marine Safety Office, 110 Mt. Elliott Ave, Detroit, Michigan. The telephone number is (313) 568-9580. Marine Safety Office, Detroit maintains the public docket. Comments and documents as indicated in this preamble will be available for inspection or copying between 9:30 a.m. and 2 p.m., Monday through Friday, except Federal Holidays.

FOR FURTHER INFORMATION CONTACT: ENS Brandon Sullivan, U.S. Coast Guard Marine Safety Office, 110 Mt. Elliott Ave, Detroit, Michigan 48207. The telephone number is (313) 568-9580.

SUPPLEMENTARY INFORMATION: In accordance with 5 U.S.C. 553, a notice of proposed rulemaking was not published for this regulation and good cause exists for making it effective in less than 30 days after publication in the Federal Register. Publication of a notice of proposed rulemaking and delay of effective date would be contrary to the public interest because immediate action is necessary to ensure the public safety from terrorist activity.

Background and Purpose

Due to recent terrorist attacks the Captain of the Port Detroit has deemed this security zone appropriate to ensure public safety. Entry into, transit through or anchoring within this security zone is prohibited unless authorized by the Captain of the Port, Detroit or his on scene representative which may be contacted on VHF Channel 16.

Regulatory Evaluation

This rule is not a significant regulatory action under section 3(f) of Executive Order 12866 and does not require an assessment of potential costs and benefits under section 6(a)(3) of that order. The Office of Management and Budget has exempted it from review under that order. It is not significant under the regulatory policies and procedures of the Department of Transportation (DOT) (44 FR 11040, February 26, 1979). The Coast Guard expects the economic impact of this proposal to be so minimal that a full Regulatory Evaluation under paragraph 10(e) of the regulatory policies and procedures of DOT is unnecessary.

Small Entities

Under the Regulatory Flexibility Act (5 U.S.C. 601-612) the Coast Guard considered whether this rule will have a significant impact on a substantial number of small businesses and not-for-profit organizations that are not dominant in their respective fields, and governmental jurisdictions with populations less than 50,000. For the same reasons set forth in the above regulatory evaluation, the Coast Guard certifies under 5 U.S.C. 605(b) that this final rule will not have a significant economic impact on a substantial number of small entities.

Assistance for Small Entities

In accordance with section 213(a) of the Small Business Regulatory Enforcement Fairness Act of 1996 (Pub. L. 104-121), the Coast Guard wants to assist small entities in understanding this rule so that they can better evaluate its effectiveness and participate in the rulemaking process. If your small business or organization is affected by this rule, and you have questions concerning its provisions or options for compliance, please contact the office listed in ADDRESSES in this preamble.

Collection of Information

This rule contains no information collection requirements under the Paperwork Reduction Act (44 U.S.C. 3501-3520).

Federalism

The Coast Guard has analyzed this rule under the principles and criteria contained in Executive Order 13132 and has determined that this rule does not have sufficient federalism implications to warrant the preparation of a Federalism Assessment.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This rule would not affect a taking of private property or otherwise have taking implications under Executive Order 12630, Governmental Actions and Interference with Constitutionally Protected Property Rights.

Civil Justice Reform

This rule meets the applicable standards in sections 3(a) and 3(b)(2) of Executive Order 12988, Civil Justice Reform, to minimize litigation, eliminate ambiguity, and reduce burden.

Protection of Children

The Coast Guard has analyzed this rule under Executive Order 13045, Protection of Children from Environmental Health Risks and Safety Risks. This rule is not an economically significant rule and does not concern an environmental risk to health or risk to safety that may disproportionately affect children.

Environment

We have considered the environmental impact of this proposed rule and concluded that, under figure 2-1, paragraph 34(g) of Commandant Instruction M16475.1D, this rule is categorically excluded from further environmental documentation. A written categorical exclusion determination is available in the docket for inspection or copying where indicated under ADDRESSES.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action.

List of Subjects in 33 CFR Part 165

Harbors, Marine safety, Navigation (water), Reporting and recordkeeping requirements, Security measures, Waterways.

For the reasons set out in the preamble, the Coast Guard amends 33 CFR part 165 as follows:

1. The authority citation for part 165 continues to read as follows:

Authority: 33 U.S.C.1231; 50 U.S.C. 191, 33 CFR 1.05-1(g), 6.04-1, 6.04-6, 160.5; and 49 CFR 1.46.

2. A new § 165.T09-998 is added to read as follows:

§ 165.T09-998 Security Zone: Selfridge Army National Guard Base, Michigan.

(a) Location. The following area is a Security Zone: The waters off Selfridge Army National Guard Base in Michigan one half mile from shore between the Hall Road Launch Ramp and the entrance to Mac and Rays Marina.

(b) Effective dates. This section becomes effective at 2 p.m. September 11, 2001.

(c) Regulations.

(1) The general regulations contained in 33 CFR 165.23 apply.

(2) All persons and vessels shall comply with the instructions of the Coast Guard Captain of the Port or the designated on scene patrol personnel. Coast Guard patrol personnel include commissioned, warrant, and petty officers of the Coast Guard. Upon being hailed by a U.S. Coast Guard vessel via siren, radio, flashing light, or other means, the operator shall proceed as directed. Coast Guard Auxiliary and local or state officials may be present to inform vessel operators of this regulation and other applicable laws.

(3) Commercial vessels may request permission to transit the safety zone from the Captain of the Port Detroit. Approval in such cases will be case by case. Request must be made in advance to and approved by the Captain of the Port before such transits will be authorized.

Dated: September 11, 2001.
P.G. Gerrity,
Commander, U.S. Coast Guard, Captain of the Port Detroit.

[FR Doc. 01-23712 Filed 9-21-01; 8:45 am]

BILLING CODE 4910-15-U